DEPARTMENT OF DEFENSE

Department of the Army, Corps of Engineers

Intent To Prepare a Draft Environmental Impact Statement/Environmental Impact Report for a Proposed Marine Terminal Development at Pier S In the Port of Long Beach, Los Angeles County, CA

AGENCY: U.S. Army Corps of Engineers, Los Angeles District, DoD.

ACTION: Notice of intent.

SUMMARY: The U.S. Army Corps of Engineers (Corps) is considering the development of Pier S Marine Terminal Project (Proposed Action). The development of Pier S would result in a 160-acre marine container terminal, and would include four elements: dredging, wharf construction, and container cranes; container yard; terminal buildings and truck gates; and an intermodal rail yard.

The primary Federal concern is the dredging and discharging of materials within waters of the U.S. and potential impacts on the human environment. Under section 404 of the Clean Water Act, the Corps is authorized to approve discharges of dredged or fill material into waters of the U.S. Under Section 10 of the Rivers and Harbors Act, the Corps may authorize activities that could affect navigable waters. The Corps is preparing an Environmental Impact Statement (EIS) pursuant to the National Environmental Policy Act (NEPA) prior to deciding whether or not to authorize the Proposed Action. The Corps may ultimately make a determination to permit or deny the Proposed Action, or permit or deny alternatives to the Proposed Action.

Pursuant to the California Environmental Quality Act (CEQA), the Port will serve as Lead Agency for the preparation of an Environmental Impact Report (EIR) for its consideration of development approvals within its jurisdiction. The Corps and the Port have agreed to jointly prepare a Draft EIS/EIR in order to optimize efficiency and avoid duplication. The Draft EIS/EIR is intended to be sufficient in scope to address federal, state, and local requirements and environmental issues concerning the proposed activities and permit approvals.

FOR FURTHER INFORMATION CONTACT: Questions about the proposed action and Draft EIS/EIR can be answered by Mr. Joshua Burnam, Corps Project Manager, at 213-452-3294. Comments regarding the scope of the Draft EIS/EIR shall be addressed to: U.S. Army Corps of Engineers, Los Angeles District, Regulatory Branch, ATTN: File Number 1999-16479-JLB, PO Box 532711, Los Angeles, California 90053-2325. Copies should also be sent to Stacey Crouch, Port of Long Beach, PO Box 570, Long Beach, CA 90801-0570.

SUPPLEMENTARY INFORMATION:

1. Project Site and Background Information. Pier S is an approximately 170-acre marine terminal site in the Terminal Island Harbor Planning District of the Port. The site was formerly used as an active oil and gas production field from the 1930s until 1999. From 1951 to 1969, a portion of the site was leased by the United Pacific Resources Corporation (UPRC) to the now defunct TCL Corporation for the disposal of oil and gas drilling waste in shallow impoundments or “sumps.” Testing conducted in the 1980s indicated that TCL Corporation disposed of materials other than those permitted under lease agreement.

As a continuing effort to remediate contaminated soils and allow for expanding port uses, the Port and the California Department of Toxic Substances Control entered into a voluntary cleanup agreement in September 1997 to investigate and remediate contamination. Several phases of subsurface investigations conducted between 1991 and 1997 characterized subsurface contamination. The total volume of sump material on site was estimated to be approximately 180,000 cubic yards. Chemical analyses of soil and shallow groundwater identified organic and inorganic contaminants.

In 1998 and 1999, an EIR for a marine container terminal on Pier S was prepared. The Port's Board of Harbor Commissioners certified the EIR in March 1999, approving the Pier S marine container terminal. Project components included: relocation of oil facilities and utilities; site remediation; site preparation; dike realignment; wharf construction; and other terminal facilities. The relocation of oil facilities and utilities, site remediation, which included investigation and remediation of approximately 25 acres of sump material and contaminated groundwater, and site preparation, which included raising the existing ground surface to approximately 15 feet Mean Lower Low Water by placing approximately 4.5 million cubic yards of material on site, have all been completed. The dike realignment, wharf construction, and terminal facilities project components were evaluated in this EIR.

2. Proposed Action. The proposed dredge and fill activities would take place at Pier S and would involve dike realignment and wharf construction activities. Approximately 3,200 feet of concrete pile-supported wharf would be constructed as part of this project. Construction of the wharf would include excavation of the existing shoreline to straighten the shoreline and widen the Cerritos Channel to 808 feet between the Pier A and future Pier S pierhead lines to accommodate the passage of a 22 container wide vessel (approximately 188 feet in width) through the channel. Widening of the Cerritos Channel would create approximately 10.7 acres of new water surface area. Wharf excavation would include removing approximately 1,200,000 cubic yards of material to be disposed of as described below, driving approximately 1,950 concrete piles (up to 110 feet in length), and reconstructing the shoreline with up to 500,000 tons of imported quarry run and armor rock. In addition to wharf excavation, approximately 500,000 cubic yards of material that may or may not be suitable for unconfined aquatic disposal would be dredged from the Cerritos Channel for ship berthing. Material would be deposited at agency-approved, in-water and/or upland disposal sites.

Wharf construction may include rail access, automobile import/export, or a multi-use storage area. The majority of the backlands of the Pier S terminal (up to 100 acres) would be developed for container storage, and could be utilized without a DA permit. Both wheeled and grounded operations would be served by various terminal equipment including trucks, yard tractors, reach stackers, top-picks, straddle carriers, and rubber-tired gantry cranes. The terminal would include buildings, facilities, and other structures needed to support container terminal operations and administration. Building construction is anticipated to include, but not be limited to, fourteen structures. Two truck gates (main gate and secondary gate) with sign bridges, raised pedestals, scales, and infrastructure required to mount and operate optical character recognition equipment would be constructed at the southwest (main gate) and southeast (secondary gate) corners of the terminal. A pedestrian footbridge may also be constructed over the main gate complex. Truck access to the terminal would be through the main gate complex from New Dock Street and through the secondary gate from Pier T Avenue. The terminal may include an intermodal railyard facility, consisting of eight tracks totaling approximately 13,750 lineal feet. The facility would have the capacity to accommodate two twenty-car unit trains (each car is 309 feet long and has five, articulated wells in which containers can be stacked two high).

3. Issues. There are several potential environmental issues that will be addressed in the EIS/EIR. Additional issues may be identified during the scoping process. Issues initially identified as potentially significant include:

1. Geological issues including dredging and stabilization of fill areas.

2. Potential impacts on marine biological resources, including endangered species.

3. Marine water circulation and water and sediment quality.

4. Impacts on air quality.

5. Traffic, including navigation issues, and transportation related impacts.

6. Potential noise impacts.

7. Impacts on public utilities and services.

8. Impact on aesthetic resources.

9. Potential impacts on public health and safety.

10. Environmental justice issues.

11. Cumulative impacts.

4. Alternatives. Alternatives initially being considered for the proposed project development include the following:

a. Marine Container Terminal with Rail Access (preferred).

b. Marine Container Terminal without Rail Access.

c. Landfill Alternative—construction of a new marine terminal by creating a new landfill in the harbor.

d. Non-containerized use of terminal (lumber, autos).

e. Reduced Wharf and Reduced Dredging Alternative.

f. Non-shipping use-park, cruise terminal, commercial development, empty container storage.

g. No Federal action alternative—construction and use of only upland portions of the site.

5. Scoping Process. The Corps and the Port will jointly conduct a scoping meeting for the proposed project. English and Spanish translation services will be provided at the meeting. The public scoping meeting will be held to receive public comment and assess public concerns regarding the appropriate scope of the Draft EIS/EIR. Participation in the public meeting by federal, state and local agencies and other interested organizations and persons are encouraged.

Parties interested in being added to the Corps' electronic mail notification list for the Pier S marine terminal project or other projects in the Port of Long Beach can register at: http://www.spl.usace.army.mil/regulatory/register.html. This list will be used in the future to notify the public about scheduled hearings and availability of future public notices.

The Corps of Engineers will also be consulting with the U.S. Fish and Wildlife Service under the Endangered Species Act and Fish and Wildlife Coordination Act, and with the National Marine Fisheries Service under the Magnuson-Stevens Act. Additionally, the EIS/EIR will assess the consistency of the proposed Action with the Coastal Zone Management Act and potential water quality impacts pursuant to Section 401 of the Clean Water Act.

The public scoping meeting for the Draft EIS/EIR will be held on September 25th, 2003, at 6 p.m, at the Port of Long Beach administration building. The Corps and the Port will separately transmit local notices of the meeting prior to the event. Written comments will be received until October 10th, 2003.

6. Availability of the Draft EIS/EIR. The Draft EIS/EIR is expected to be published and circulated sometime between Winter 2003 and Spring 2004, and a new public notice and public hearing will be held after its publication.

Richard G. Thompson,
Colonel, U.S. Army, District Engineer.

[FR Doc. 03-23205 Filed 9-11-03; 8:45 am]

BILLING CODE 3710-92-P